DEPARTMENT OF THE INTERIOR

Bureau of Land Management

[LLNV952000 L14200000.BJ0000 241A; 13-08807; MO# 4500052367; TAS: 14X1109]

Filing of Plats of Survey; NV

AGENCY: Bureau of Land Management, Interior.

ACTION: Notice.

SUMMARY: The purpose of this notice is to inform the public and interested State and local government officials of the filing of Plats of Survey in Nevada.

DATES: Effective Dates: Filing is effective at 10:00 a.m. on the dates indicated below.

FOR FURTHER INFORMATION CONTACT: David D. Morlan, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Supplemental Plat of the following described lands was officially filed at the Nevada State Office, Reno, Nevada on April 10, 2013:

The supplemental plat, in 1 sheet, showing the subdivision of former lot 16, section 19, Township 22 South, Range 60 East, Mount Diablo Meridian, Nevada under Group 923 was accepted April 5, 2013. This supplemental plat was prepared to meet certain administrative needs of the BLM.

2. The Plat of Survey of the following described lands was officially filed at the Bureau of Land Management (BLM) Nevada State Office, Reno, Nevada on April 15, 2013:

The plat, in 1 sheet, representing the dependent resurvey of a portion of the subdivisional lines and the subdivision of section 33, Township 23 South, Range 64 East, of the Mount Diablo Meridian, Nevada, under Group No. 915, was accepted April 10, 2013. This survey was executed to meet certain administrative needs of the BLM.

3. The Plat of Survey of the following described lands will be officially filed at the Nevada State Office, Reno, Nevada on the first business day after thirty (30) days from the publication of this notice:

This plat, in 3 sheets, representing the dependent resurvey of a portion of a portion of the south boundary of Township 40 North, Range 31 East; and the dependent resurvey of the east boundary, a portion of the north boundary and a portion of the subdivisional lines, and the subdivision of certain sections, Township 39 North, Range 31 East, of the Mount Diablo Meridian, Nevada, under Group No. 807, was accepted June 25, 2013. This survey was executed to meet certain administrative needs of the BLM.

4. The Plat of Survey of the following described lands will be officially filed at the Nevada State Office, Reno, Nevada on the first business day after thirty (30) days from the publication of this notice:

This plat, in 1 sheet, representing the dependent resurvey of portions of the south and north boundaries and a portion of the subdivisional lines, the survey of a portion of the subdivisional lines, and the subdivision of certain sections, Township 38 North, Range 31 East, of the Mount Diablo Meridian, Nevada, under Group No. 802, was accepted June 25, 2013. This survey was executed to meet certain administrative needs of the BLM.

Subject to valid existing rights, the provisions of existing withdrawals and classifications, the requirement of applicable laws, and other segregations of record, these lands are open to application, petition and disposal, including application under the mineral leasing laws. All such valid applications received on or before the official filing of the Plat of Survey described in Plat of Survey #4, shall be considered as simultaneously filed at that time. Applications received thereafter shall be considered in order of filing.

The surveys listed above are now the basic record for describing the lands for all authorized purposes. These surveys have been placed in the open files in the BLM Nevada State Office and are available to the public as a matter of information. Copies of the surveys and related field notes may be furnished to the public upon payment of the appropriate fees.

Dated: June 26, 2013.
David D. Morlan,
Chief Cadastral Surveyor, Nevada.

[FR Doc. 2013-16309 Filed 7-5-13; 8:45 am]

BILLING CODE 4310-HC-P